DEPARTMENT OF COMMERCE

International Trade Administration

[C-570-980]

Crystalline Silicon Photovoltaic Cells, Whether or Not Assembled Into Modules, From the People's Republic of China: Preliminary Results of Countervailing Duty Administrative Review, and Rescission in Part; 2022

AGENCY: Enforcement and Compliance, International Trade Administration, Department of Commerce.

SUMMARY: The U.S. Department of Commerce (Commerce) preliminarily determines that countervailable subsidies were provided to producers and exporters of crystalline silicon photovoltaic cells, whether or not assembled into modules, (solar cells) from the People's Republic of China (China) during the period of review (POR), January 1, 2022, through December 31, 2022. We are rescinding this review with respect to the companies listed in Appendix III. Interested parties are invited to comment on these preliminary results.

DATES: Applicable April 21, 2025.

FOR FURTHER INFORMATION CONTACT: Jose Rivera, AD/CVD Operations, Office VII, Enforcement and Compliance, International Trade Administration, U.S. Department of Commerce, 1401 Constitution Avenue NW, Washington, DC 20230; telephone: (202) 482-0842, respectively.

SUPPLEMENTARY INFORMATION:

Background

On February 8, 2024, Commerce initiated this administrative review of the countervailing duty (CVD) order on solar cells from China.¹ Jiangsu Highhope International Group Corporation (High Hope) and Changzhou Zhaojing Light Energy Co., Ltd. (Light Energy) are the mandatory respondents. High Hope did not submit a full questionnaire response as it withdrew its participation in this administrative review. Further, Light Energy reported that it had an unaffiliated producer, Yangzhou Jinghua New Energy Technology Co., Ltd. (Yangzhou Jinghua). The unaffiliated producer was unresponsive to Commerce's initial questionnaire. On July 22, 2024, Commerce tolled certain deadlines in this administrative proceeding by seven days.² On August 13, 2024, Commerce extended the time limits for these preliminary results to December 18, 2024.³ On December 9, 2024, Commerce tolled the deadline to issue the preliminary results in this administrative review by 90 days.⁴ On March 17, 2025, we extended the time period for issuing these preliminary results to March 28, 2025.⁵ Additionally, on March 26, 2025, we extended the time period for issuing for these preliminary results to the current deadline of April 7, 2025.⁶

¹ See Initiation of Antidumping and Countervailing Duty Administrative Reviews, 89 FR 8641 (February 8, 2024).

² See Memorandum, “Tolling of Deadlines for Antidumping and Countervailing Duty Proceedings,” dated July 22, 2024.

³ See Memorandum, “Extension of Deadline for Preliminary Results of Countervailing Duty Administrative Review,” August 13, 2024.

⁴ See Memorandum, “Tolling of Deadlines for Antidumping and Countervailing Duty Proceedings,” dated December 9, 2024.

⁵ See Memorandum, “Extension of Deadline for Preliminary Results of Countervailing Duty Administrative Review,” dated March 17, 2025.

⁶ See Memorandum, “Extension of Deadline for Preliminary Results of Countervailing Duty Administrative Review,” dated March 26, 2025.

For a complete description of the events that followed the initiation of this review, see the Preliminary Decision Memorandum.⁷ A list of topics discussed in the Preliminary Decision Memorandum is included as Appendix I to this notice. The Preliminary Decision Memorandum is a public document and is on file electronically via Enforcement and Compliance's Antidumping and Countervailing Duty Centralized Electronic System (ACCESS). ACCESS is available to registered users at https://access.trade.gov. In addition, a complete version of the Preliminary Decision Memorandum can be accessed directly at https://access.trade/gov/public/FRNoticesListLayout.aspx.

⁷ See Memorandum, “Decision Memorandum for the Preliminary Results of the Countervailing Duty Administrative Review, and Rescission in Part: Crystalline Silicon Photovoltaic Cells, Whether or Not Assembled into Modules, from the People's Republic of China; 2022,” dated concurrently with, and hereby adopted by, this notice (Preliminary Decision Memorandum).

Scope of the Order

The products covered by this order are crystalline silicon photovoltaic cells, and modules, laminates, and panels, consisting of crystalline silicon photovoltaic cells, whether or not partially or fully assembled into other products, including, but not limited to, modules, laminates, panels, and building integrated materials. For a complete description of the scope of this order, see the Preliminary Decision Memorandum.

Rescission of Administrative Review, in Part

Pursuant to 19 CFR 351.213(d)(3), Commerce will rescind an administrative review when there are no reviewable suspended entries. Based on our analysis of U.S. Customs and Border Protection (CBP) information, we preliminarily determine that 65 companies had no entries of subject merchandise during the POR. On December 5, 2024, we notified parties that we intended to rescind this administrative review with respect to the companies for which have no reviewable suspended entries.⁸ For additional information regarding this determination, see the Preliminary Decision Memorandum. For a complete list of the companies, see Appendix III to this notice.

⁸ See Memorandum, “Intent to Rescind Review, In Part,” dated December 5, 2024.

Methodology

Commerce is conducting this administrative review in accordance with section 751(a)(1)(A) of the Tariff Act of 1930, as amended (the Act). For each of the subsidy programs preliminarily found to be countervailable, we preliminarily determine that there is a countervailable subsidy, i.e., a financial contribution from an authority that gives rise to a benefit to the recipient and that the subsidy is specific.⁹ For a full description of the methodology underlying our preliminary conclusions, including our reliance, in part, on facts available with adverse inferences pursuant to sections 776(a) and (b) of the Act, see the Preliminary Decision Memorandum.

⁹ See sections 771(5)(B) and (D) of the Act regarding financial contribution; section 771(5)(E) of the Act regarding benefit; and section 771(5A) of the Act regarding specificity.

Preliminary Rate for Non-Selected Companies Under Review

There are 7 companies for which a review was requested and not rescinded, which had reviewable entries, and which were not selected as mandatory respondents or found to be cross-owned with a mandatory respondent. See Appendix II. The Act and Commerce's regulations do not address the establishment of a rate to apply to companies not selected for individual examination when Commerce limits its examination in an administrative review pursuant to section 777A(e)(2) of the Act. However, Commerce normally determines the rates for non-selected companies in reviews in a manner that is consistent with section 705(c)(5) of the Act, which provides instructions for calculating the all-others rate in an investigation. Section 777A(e)(2) of the Act provides that “the individual countervailable subsidy rates determined under subparagraph (A) shall be used to determine the all-others rate under section 705(c)(5) {of the Act}.” Section 705(c)(5)(A) of the Act states that for companies not investigated, in general, we will determine an all-others rate by weight averaging the countervailable subsidy rates established for each of the companies individually investigated, excluding zero and de minimis rates or any rates based entirely on facts available.

Accordingly, to determine the rate for companies not selected for individual examination, Commerce's practice is to weight average the net subsidy rates for the selected mandatory respondents, excluding rates that are zero, de minimis, or based entirely on facts available.¹⁰ In this administrative review, Commerce preliminarily assigned a rate based entirely on facts available to High Hope. While the rate calculated for Light Energy is not based entirely on facts available, we have determined to cumulate Light Energy's rate with the AFA rate calculated for High Hope, pursuant to 19 CFR 351.525(c). Therefore, we determine that it would not be a “reasonable method” to assign Light Energy's rate as the non-select rate. In the absence of any other rate not based entirely on facts available, we resort to alternative reasonable method, which is to assign the non-select rate calculated in the previous review under this proceeding.¹¹ Therefore, for the other companies that remain subject to this review but were not selected as mandatory respondents, and which we are not finding to be cross-owned with the mandatory respondents, we calculated the non-selected rate using the 2021 non-selected rate of 9.07 percent.

¹⁰ See, e.g., Certain Pasta from Italy: Final Results of the 13th (2008) Countervailing Duty Administrative Review, 75 FR 37386, 37387 (June 29, 2010).

¹¹ See, e.g., Certain Passenger Vehicle and Light Truck Tires from the People's Republic of China: Final Results of Antidumping Duty Administrative Review and Final Determination of No Shipments; 2018-2019, 89 FR 33317 (April 29, 2024), and accompanying IDM at Comment 1.

Preliminary Results of Review

In accordance with 19 CFR 351.22l(b)(4)(i), we calculated a countervailable subsidy rate for the mandatory respondent Light Energy. We determined the countervailable subsidy rate for High Hope based entirely on adverse facts available, in accordance with section 776 of the Act. We also assigned an individual estimated subsidy rate based on adverse facts available to Light Energy's unaffiliated supplier, Yangzhou Jinghua, in accordance with section 776 of the Act. As a result of this review, we preliminarily determine the following net countervailable subsidy rates exist for the POR, January 1, 2022, through December 31, 2022:

Company | Subsidy rate (percent ad valorem)
Changzhou Zhaojing Light Energy Co., Ltd.¹² | 125.34
Jiangsu Highhope International Group Corporation ¹³ | 118.12
Yangzhou Jinghua New Energy Technology Co., Ltd | 118.12
Non-Selected Companies Under Review ¹⁴ | 9.07

Disclosure and Public Comment

¹² As discussed in the Preliminary Decision Memorandum, Commerce has found the following company to be cross-owned with Light Energy: Changzhou New Century Electron Co., Ltd.

¹³ This rate applies to: Jiangsu Highhope International Group Corporation and its cross-owned companies: High Hope Zhongtian Corporation and Jiangsu Suhui Asset Management Co., Ltd.

¹⁴ See Appendix II of this notice for a list of all companies that remain under review but were not selected for individual examination and to which Commerce has preliminarily assigned the non-selected company rate.

Commerce intends to disclose its calculations and analysis performed to interested parties for these preliminary results within five days of any public announcement or, if there is no public announcement, within five days of the date of publication of this notice in accordance with 19 CFR 351.224(b).

Case briefs or other written comments may be submitted to the Assistant Secretary for Enforcement and Compliance. Pursuant to 19 CFR 351.309(c)(1)(ii), we have modified the deadline for interested parties to submit case briefs to Commerce to no later than 21 days after the date of the publication of this notice.¹⁵ Rebuttal briefs, limited to issues raised in the case briefs, may be filed not later than five days after the date for filing case briefs.¹⁶ Interested parties who submit case briefs or rebuttal briefs in this proceeding must submit: (1) a table of contents listing each issue; and (2) a table of authorities.¹⁷ All briefs must be filed electronically using ACCESS. An electronically filed document must be received successfully in its entirety in ACCESS by 5:00 p.m. Eastern Time on the established deadline.

¹⁵ See 19 CFR 351.309.

¹⁶ See 19 CFR 351.309(d); see also Administrative Protective Order, Service, and Other Procedures in Antidumping and Countervailing Duty Proceedings, 88 FR 67069, 67077 (September 29, 2023) (APO and Service Procedures).

¹⁷ See 19 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹⁸ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁹

¹⁸ We use the term “issue” here to describe an argument that Commerce would normally address in a comment of the Issues and Decision Memorandum.

¹⁹ See APO and Service Procedures.

Pursuant to 19 CFR 351.310(c), interested parties who wish to request a hearing must submit a written request to the Assistant Secretary for Enforcement and Compliance, filed electronically via ACCESS by 5:00 p.m. Eastern Time within 30 days after the date of publication of this notice. Requests should contain: (1) the party's name, address, and telephone number; (2) the number of participants; and (3) a list of issues to be discussed. Oral presentations at the hearing will be limited to issues raised in the briefs. If a request for a hearing is made, Commerce will inform parties of the scheduled date for the hearing.²⁰

²⁰ See 19 CFR 351.310(d).

Assessment Rates

Consistent with section 751(a)(1) of the Act and 19 CFR 351.212(b)(2), upon issuance of the final results, Commerce shall determine, and CBP shall assess, countervailing duties on all appropriate entries covered by this review.

For the companies listed in Appendix III for which the review is being rescinded, Commerce will instruct CBP to assess countervailing duties on all appropriate entries at a rate equal to the cash deposit of estimated countervailing duties required at the time of entry, or withdrawal from warehouse, for consumption, during the period January 1, 2022, through December 31, 2022, in accordance with 19 CFR 351.212(c)(1)(i). Commerce intends to issue rescission instructions to CBP no earlier than 35 days after the date of publication of this rescission in the Federal Register.

For the companies remaining subject to the review, Commerce will instruct CBP to assess countervailing duties on all appropriate entries at the subsidy rates calculated in the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Rates

Pursuant to section 751(a)(2)(C) of the Act, Commerce intends to instruct CBP to collect cash deposits of estimated countervailing duties in the amount indicated above with regard to shipments of subject merchandise entered, or withdrawn from warehouse, for consumption on or after the date of publication of the final results of this review. For all non-reviewed firms, we will instruct CBP to continue to collect cash deposits of estimated countervailing duties at the most recent company-specific or all-others rate applicable to the company, as appropriate. These cash deposit instructions, when imposed, shall remain in effect until further notice.

Final Results of Review

Unless the deadline is extended, we intend to issue the final results of this administrative review, which will include the results of our analysis of the issues raised in the case briefs, within 120 days of publication of these preliminary results in the Federal Register, pursuant to section 751(a)(3)(A) of the Act.

Notification to Interested Parties

We are issuing and publishing these preliminary results in accordance with sections 751(a)(1) and 777(i)(1) of the Act, and 19 CFR 351.221(b)(4).

Dated: April 7, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Period of Review

IV. Rescission of Review, In Part

V. Rate for Non-Selected Companies Under Review

VI. Scope of the Order

VII. Diversification of China's Economy

VIII. Subsidies Valuation

IX. Interest Rate Benchmarks, Discount Rates, and Benchmarks for Measuring Adequacy of Remuneration

X. Use of Facts Otherwise Available and Application of Adverse Inferences

XI. Analysis of Programs

XII. Recommendation

Appendix II

Non-Selected Companies Under Review

1. Anji Dasol Solar Energy Science & Technology Co., Ltd.

2. BYD (Shangluo) Industrial Co., Ltd.; Shanghai BYD Co., Ltd.; BYD Company Ltd.

3. Changzhou Trina PV Ribbon Materials Co., Ltd.; Changzhou Trina Solar Energy Co., Ltd.; Changzhou Trina Solar Yabang Energy Co., Ltd.; Hubei Trina Solar Energy Co., Ltd.; Trina Solar (Changzhou) Science and Technology Co., Ltd.; Trina Solar Co., Ltd.; Turpan Trina Solar Energy Co., Ltd.; Yancheng Trina Solar Energy Technology Co., Ltd.

4. Shenzhen Sungold Solar Co., Ltd.

5. Toenergy Technology Hangzhou Co., Ltd.

6. Trina Solar Science & Technology (Thailand) Ltd.²¹

²¹ In the final results of the 2021 administrative review, this company was inadvertently grouped with other Trina companies. Commerce has not made a cross-ownership determination with regards to Trina Solar Science & Technology (Thailand) Ltd. and any other company. See Crystalline Silicon Photovoltaic Cells, Whether or Not Assembled Into Modules, From the People's Republic of China: Final Results of Countervailing Duty Administrative Review; 2021, 89 FR 51497 (June 18, 2024).

7. Yingli Energy (China) Company Ltd.

Appendix III

Companies To Be Rescinded

1. Astronergy Co., Ltd.

2. Astronergy Solar

3. Baoding Jiasheng Photovoltaic Technology Co., Ltd.

4. Baoding Tianwei Yingli New Energy Resources Co., Ltd.

5. Donghai JA Solar Technology Co., Ltd.; Hebei Ningjin Songgong Semiconductor Co., Ltd.; Hebei Ningtong Electronic Materials Co., Ltd.; Hebei Yujing Electronic Science and Technology Co., Ltd.; Hefei JA Solar Technology Co., Ltd.; JA (Hefei) Renewable Energy Co., Ltd; Jing Hai Yang Semiconductor Material (Donghai) Co., Ltd.; JingAo Solar Co., Ltd.; JA SOLAR TECHNOLOGY YANGZHOU CO., LTD.; Shanghai JA Solar Technology Co., Ltd.; JA Solar Investment China Co., Ltd; Donghai JingAo Solar Energy Science and Technology Co., Ltd.; Solar Silicon Valley Electronic Science and Technology Co., Ltd.; Beijing Jinfeng Investment Co., Ltd.; Ningjin Songgong Electronic Materials Co., Ltd.; Jinglong Industry and Commerce Group Co., Ltd.; Ningjin County Jingyuan New Energy Investment Co., Ltd.; Hebei Jinglong New Materials Technology Group Co., Ltd.; Hebei Jinglong Sun Equipment Co. Ltd.; Hebei Jingle Optoelectronic Technology Co., Ltd.; Ningjin Jingxing Electronic Material Co., Ltd.; Ningjin Saimei Ganglong Electronic Materials Co., Ltd.; JA Solar (Xingtai) Co., Ltd.; Xingtai Jinglong Electronic Material Co., Ltd.; Xingtai Jinglong PV Materials Co., Ltd.; JA PV Technology Co., Ltd.; Ningjin Jinglong PV Industry Investment Co., Ltd.; Baotou JA Solar Technology Co., Ltd.; Xingtai Jinglong New Energy Co., Ltd.; Ningjin County Jing Tai Fu Technology Co., Ltd.; JA Solar Technology Co., Ltd.; Jinglong Technology Holdings Co., Ltd.; Ningjin Guiguang Electronics Investment Co., Ltd.; Ningjin Longxin Investment Co., Ltd.; Beijing JA Solar PV Technology Co., Ltd.; Solar Silicon Peak Electronic Science and Technology Co., Ltd.; Jingwei Electronic Materials Co., Ltd.; Taicang Juren PV Material Co., Ltd.

6. Beijing Tianneng Yingli New Energy Resources Co., Ltd.

7. Boviet Solar Technology Co., Ltd.

8. BYD H.K. CO., Ltd.

9. Canadian Solar International Limited

10. Canadian Solar (USA) Inc.

11. Canadian Solar Inc.; Canadian Solar Manufacturing (Changshu) Inc.; Canadian Solar Manufacturing (Luoyang) Inc.; Changshu Tegu New Materials Technology Co., Ltd.; Changshu Tlian Co., Ltd.; CSI Cells Co., Ltd.; CSI New Energy Holding Co., Ltd.; CSI Solar Manufacture Inc.; CSI Solar Power (China) Inc.; CSI Solar Technologies Inc.; CSI Solartronics (Changshu) Co., Ltd.; CSI-GCL Solar Manufacturing (Yancheng) Co., Ltd.; Suzhou Sanysolar Materials Technology Co., Ltd.; Changshu Tegu New Material Technology Co., Ltd.

12. Changzhou Trina Hezhong Photoelectric Co., Ltd.

13. Chint Solar (Zhejiang) Co., Ltd.; Chint New Energy Technology Co., Ltd.; Haining Chint Solar Energy Technology Co., Ltd.; Chint New Energy Technology (Yancheng) Co., Ltd.; Chint Solar (Yancheng) Co., Ltd.; Jiuquan Chint New Energy Technology Co., Ltd.; Chint Group Co., Ltd.; Zhejiang Chint Electrics Co., Ltd.; Zhejiang Chint New Energy Development Co., Ltd.; Chint Solar (Jiuquan) Co., Ltd.; Chint Solar (Shanghai) Co., Ltd.

14. Chint Solar (Hong Kong) Company Limited

15. CSI Modules (Dafeng) Co., Ltd.

16. CSI Solar Co., Ltd.

17. CSI Solar Manufacturing (Fu Ning) Co., Ltd.

18. DelSolar (Wujiang) Ltd.

19. DelSolar Co., Ltd.

20. De-Tech Trading Limited HK

21. Dongguan Sunworth Solar Energy Co., Ltd.

22. Eoplly New Energy Technology Co., Ltd.

23. ERA Solar Co., Ltd.

24. ET Solar Energy Limited

25. Fuzhou Sunmodo New Energy Equipment Co., Ltd.

26. GCL System Integration Technology Co., Ltd.

27. Hainan Yingli New Energy Resources Co., Ltd.

28. Hangzhou Sunny Energy Science and Technology Co., Ltd.

29. Hengdian Group DMEGC Magnetics Co., Ltd.

30. Hengshui Yingli New Energy Resources Co., Ltd.

31. Jiangsu Jinko Tiansheng Solar Co., Ltd.

32. Jinko Solar Import And Export Co., Ltd.; Jinko Solar Co., Ltd.; Zhejiang Jinko Solar Co., Ltd.; Jiangxi Jinko Photovoltaic Materials Co., Ltd.; Xinjiang Jinko Solar Co., Ltd.; JinkoSolar (Chuzhou) Co., Ltd.; JinkoSolar (Shangrao) Co., Ltd.; JinkoSolar (Sichuan) Co., Ltd.; JinkoSolar (Yiwu) Co., Ltd.; JinkoSolar Technology (Haining) Co., Ltd.; Ruixu Industrial Co., Ltd.; Yuhuan Jinko Solar Co., Ltd.; Jinko Solar (Shanghai) Management Co., Ltd.

33. Jinko Solar International Limited

34. Lightway Green New Energy Co., Ltd.; Light Way Green New Energy Co., Ltd.

35. Lixian Yingli New Energy Resources Co., Ltd.

36. Longi (HK) Trading Ltd.

37. LONGi Solar Technology Co., Ltd.; LERRI Solar Technology Co., Ltd.

38. Luoyang Suntech Power Co., Ltd.

39. Nice Sun PV Co., Ltd.

40. Ningbo ETDZ Holdings, Ltd.

41. ReneSola Jiangsu Ltd.

42. Renesola Zhejiang Ltd.

43. Risen Energy Co., Ltd.; Risen (Wuhai) New Energy Co., Ltd.; Zhejiang Twinsel Electronic Technology Co., Ltd.; Risen (Luoyang) New Energy Co., Ltd.; Risen Energy (Changzhou) Co., Ltd.; Risen Energy (Yiwu) Co., Ltd.; Zhejiang Boxin Investment Co., Ltd.; Jiangsu Sveck New Material Co., Ltd.; Changzhou Sveck Photovoltaic New Material Co., Ltd. (including Changzhou Sveck Photovoltaic New Material Co., Ltd. Jintan Danfeng Road Branch); Changzhou Sveck New Material Technology Co., Ltd.; Ninghai Risen Energy Power Development Co., Ltd.; Risen (Ningbo) Electric Power Development Co., Ltd.; Risen Energy (Ningbo) Co., Ltd.; Changzhou Jintan Ningsheng Electricity Power Co., Ltd.; Risen (Changzhou) Import and Export Co., Ltd.; Jiujiang Shengchao Xinye Technology Co., Ltd.; Jiujiang Shengchao Xinye Trade Co., Ltd. Ruichang Branch.

44. Risen Energy (HongKong) Co., Ltd.

45. Risen Solar Technology Sdn. Bhd.

46. Shanghai Nimble Co., Ltd.

47. Shenzhen Topray Solar Co., Ltd.

48. Shenzhen Yingli New Energy Resources Co., Ltd.

49. Sumec Hardware & Tools Co., Ltd.

50. Sunpreme Solar Technology (Jiaxing) Co., Ltd.

51. Suntech Power Co., Ltd.

52. Suntimes Technology Co., Limited

53. Systemes Versilis, Inc.

54. Taimax Technologies Inc.

55. Taizhou BD Trade Co., Ltd.

56. Talesun Energy

57. Talesun Solar

58. tenKsolar (Shanghai) Co., Ltd.

59. Tianjin Yingli New Energy Resources Co., Ltd.

60. Trina (Hefei) Science and Technology Co., Ltd.

61. Wuxi Suntech Power Co., Ltd.

62. Wuxi Tianran Photovoltaic Co., Ltd.

63. Yingli Green Energy International Trading Company Limited

64. Zhejiang ERA Solar Technology Co., Ltd.

65. Zhejiang Sunflower Light Energy Science & Technology Limited Liability Company

[FR Doc. 2025-06779 Filed 4-18-25; 8:45 am]

BILLING CODE 3510-DS-P